DEPARTMENT OF DEFENSE

Department of the Navy

Notice of Meeting of the Board of Visitors of Marine Corps University

AGENCY: Department of the Navy, DoD.

ACTION: Notice.

SUMMARY: The Board of Visitors of the Marine Corps University (BOV MCU) will meet to review, develop and provide recommendations on all aspects of the academic and administrative policies of the University; examine all aspects of professional military education operations; and provide such oversight and advice, as is necessary, to facilitate high educational standards and cost effective operations. The Board will be focusing primarily on Information, Education, & Technology Study by Flattery Associates, Sub-Committee for Marine Corps Museum and revised By-laws for the Board of Visitors. All sessions of the meeting will be open to the public.

DATES: The meeting will be held on Monday, April 7, 2008 from 8 a.m. to 4 p.m. and on Tuesday, April 8, 2008 from 8 a.m. to 12 p.m.

ADDRESSES: The meeting will be held at Marine Corps University in the Hooper Room; Marine Corps University, 2076 South Street, Quantico, VA 22134.

FOR FURTHER INFORMATION CONTACT: Mary Lanzillotta, Executive Secretary, Marine Corps University Board of Visitors, 2076 South Street, Quantico, VA 22134, telephone number: 703-784-4037.

Dated: February 15, 2008.
T.M. Cruz,
Lieutenant, Office of the Judge Advocate General, U.S. Navy, Federal Register Liaison Officer.

[FR Doc. E8-3671 Filed 2-26-08; 8:45 am]

BILLING CODE 3810-FF-P